FEDERAL MARITIME COMMISSION

Ocean Transportation Intermediary License; Reissuance

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
2651F | Pioneer International Forwarding Co., Inc., No. 687 Commercial Street, 2nd Floor, San Francisco, CA 94111 | March 1, 2003.
15605N | Solid Trans Inc., 8625 Aviation Blvd., Inglewood, CA 90301 | June 30, 2002.
16230N | A-P-A World Transport Corp., 545 Dowd Avenue, Elizabeth, NJ 07201 | February 18, 2003.
4175NF | Silken Fortress Corporation, dba Transcargo International, 5858 S. Holmes Avenue, Los Angeles, CA 90001 | December 8, 2002.
15682N | S/J Americas Service, LLC, dba Smith & Johnson, 12707 Woodforest Blvd., Houston, TX 77015 | December 5, 2001.
14713N | Seagull Container Line Inc., 167-43 Porter Road, Jamaica, NY 11434 | April 10, 2003.

Sandra L. Kusumoto,
Director, Bureau of Consumer Complaints and Licensing.

[FR Doc. 03-11365 Filed 5-6-03; 8:45 am]

BILLING CODE 6730-01-P